DEPARTMENT OF EDUCATION

Fund for the Improvement of Postsecondary Education—European Union-United States Atlantis Program; Program for North American Mobility in Higher Education; United States-Brazil Higher Education Consortia Program; United States-Russia Program: Improving Research and Educational Activities in Higher Education

Catalog of Federal Domestic Assistance Numbers (CFDA) Numbers: 84.116J (European Union (EU)-United States (U.S.) Atlantis Program), 84.116N (Program for North American Mobility in Higher Education), 84.116M (U.S.-Brazil Higher Education Consortia Program), 84.116S (U.S.-Russia Program: Improving Research and Educational Activities in Higher Education).

AGENCY: Office of Postsecondary Education, Department of Education.

ACTION: Notice of final priorities.

SUMMARY: The Assistant Secretary for Postsecondary Education announces one absolute priority for each of the four special focus competitions conducted by the Fund for the Improvement of Postsecondary Education (FIPSE): The EU-U.S. Atlantis Program, the Program for North American Mobility in Higher Education, the U.S.-Brazil Higher Education Consortia Program, and the U.S.-Russia Program: Improving Research and Educational Activities in Higher Education competitions.

The Assistant Secretary may use these priorities for competitions in fiscal year (FY) 2010 and in later years. We take this action to focus Federal financial assistance on an identified need in the area of postsecondary education. We intend these absolute priorities to improve postsecondary education opportunities by supporting the formation of international educational consortia and encouraging cooperation in the coordination of curricula, the exchange of students, and the opening of educational opportunities between the U.S. and the countries involved in these programs.

DATES: Effective Date: These priorities are effective January 11, 2010.

FOR FURTHER INFORMATION CONTACT: Sarah Beaton, U.S. Department of Education, 1990 K Street, NW., room 6154, Washington, DC 20006-8544. Telephone: (202) 502-7621 or by e-mail: Sarah.Beaton@ed.gov.

If you use a telecommunications device for the deaf (TDD), call the Federal Relay Service, toll free, at 1-800-877-8339.

SUPPLEMENTARY INFORMATION:

Purpose of Program: The purpose of the Fund for the Improvement of Postsecondary Education (FIPSE) program is to support reforms, innovations, and significant improvements of postsecondary education that respond to problems of national significance and serve as international models. Under the FIPSE program, the Secretary makes grants for special projects concerning areas of national need.

Program Authority: 20 U.S.C. 1138-1138d.

We published a notice of proposed priorities for the FIPSE program in the Federal Register on September 8, 2009 (74 FR 46117). That notice contained background information and our reasons for proposing the particular priorities.

Except for minor editorial revisions, there are no differences between the proposed priorities and these final priorities.

Public Comment: In response to our invitation in the notice of proposed priorities, we did not receive any substantive comments on the proposed priorities.

Final Priorities:

Absolute Priority 1—EU-U.S. Atlantis Program (84.116J).

This priority supports the formation of educational consortia between the EU and U.S. institutions. To meet this priority, the applicant must propose a project that encourages cooperation in the coordination of curricula; the exchange of students, if pertinent to grant activities; and the opening of educational opportunities between the U.S. and countries in the EU. In order to be eligible for an award under this priority, the applicant in the U.S. must be a U.S. institution and the applicant in the EU must be an EU institution.

EU institutions participating in any consortium proposal under this priority may apply to the Directorate-General for Education and Culture (DG EAC), European Commission for funding under a separate but parallel EU competition.

Absolute Priority 2—Program for North American Mobility in Higher Education (84.116N).

This priority supports the formation of educational consortia of U.S., Canadian, and Mexican institutions. To meet this priority, the applicant must propose a project that supports cooperation in the coordination of curricula; the exchange of students, if pertinent to grant activities; and the opening of educational opportunities among the U.S., Canada, and Mexico. In order to be eligible for an award under this priority, the applicant in the U.S. must be a U.S. institution, the applicant in Mexico must be a Mexican institution, and the applicant in Canada must be a Canadian institution. Canadian and Mexican institutions participating in any consortium proposal under this priority may apply, respectively, to Human Resources and Social Development Canada (HRSDC) or the Mexican Secretariat for Public Education (SEP), for additional funding under separate but parallel Canadian and Mexican competitions.

Absolute Priority 3—U.S.-Brazil Higher Education Consortia Program (84.116M).

This priority supports the formation of educational consortia of U.S. and Brazilian institutions. To meet this priority, the applicant must propose a project that supports cooperation in the coordination of curricula; the exchange of students, if pertinent to grant activities; and the opening of educational opportunities between the U.S. and Brazil. In order to be eligible for an award under this priority, the applicant in the U.S. must be a U.S. institution and the applicant in Brazil must be a Brazilian institution. Brazilian institutions participating in any consortium proposal under this priority may apply to the Coordination of Improvement of Personnel of Superior Level (CAPES), Brazilian Ministry of Education, for additional funding under a separate but parallel Brazilian competition.

Absolute Priority 4—U.S.-Russian Program: Improving Research and Educational Activities in Higher Education (84.116S).

This priority supports the formation of educational consortia of U.S. and Russian institutions to encourage mutual socio-cultural-linguistic cooperation; the coordination of joint development of curricular, educational materials; and the exchange of students. In order to be eligible for an award under this priority, the applicant in the U.S. must be a U.S. institution and the applicant in Russia must be a Russian institution. Russian institutions will receive separate but parallel funding from the Russian Ministry of Education and Science.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by: (1) Awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the proposed priorities justify the costs.

We have determined, also, that this final regulatory action does not unduly interfere with State, local, and tribal governments in the exercise of their governmental functions.

We summarized the costs and benefits of this regulatory action in the notice of proposed priorities.

Intergovernmental Review: The FIPSE program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: December 8, 2009.
Daniel T. Madzelan,
Director, Forecasting and Policy Analysis.

[FR Doc. E9-29584 Filed 12-10-09; 8:45 am]

BILLING CODE 4000-01-P